DEPARTMENT OF TRANSPORTATION

Federal Aviation Administration

Advisory Circular 25.856-1, Thermal/Acoustic Insulation Flame Propagation Test Method Details

AGENCY: Federal Aviation Administration (FAA), DOT.

ACTION: Notice of availability of Advisory Circular (AC) 25.856-1.

SUMMARY: This AC provides methods acceptable to the Administrator for showing compliance with the revised airworthiness standards concerning new fire protection requirements applicable to thermal/acoustic insulation materials. The guidance in this AC describes a test method to determine the flammability and flame propagation characteristics of thermal/acoustic insulation materials on transport category airplanes.

How to Obtain Copies: A paper copy of AC 25.856-1 may be obtained by writing to the U.S.Department of Transportation, Subsequent Distribution Office, DOT Warehouse, SVC-121.23, Ardmore East Business Center, 3341Q 75th Ave., Landover, MD 20785, telephone (301) 322-5377, or faxing your request to the warehouse at (301) 386-5394. The AC also will be available on the Internet at http://www.airweb.faa.gov/rgl.

Ali Bahrami,
Manager, Transport Airplane Directorate, Aircraft Certification Service.

[FR Doc. 05-14252 Filed 7-19-05; 8:45 am]

BILLING CODE 4910-13-M